SUSQUEHANNA RIVER BASIN COMMISSION

Projects Approved or Rescinded for Consumptive Uses of Water

AGENCY: Susquehanna River Basin Commission.

ACTION: Notice.

SUMMARY: This notice lists the projects approved or rescinded by rule by the Susquehanna River Basin Commission during the period set forth in DATES.

DATES: June 1, 2011, through June 30, 2011.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval or rescission for the consumptive use of water pursuant to the Commission's approval by rule process set forth in 18 CFR 806.22(f) for the time period specified above:

Approvals By Rule Issued Under 18 CFR 806.22(f):

1. Talisman Energy USA Inc., Pad ID: 05 253 Senn W, ABR-201106001, Windham Township, Bradford County, Pa.; Consumptive Use of up to 6.000 mgd; Approval Date: June 2, 2011.

2. EQT Production Company, Pad ID: Wohler, ABR-201106002, Chest Township, Clearfield County, Pa.; Consumptive Use of up to 3.000 mgd; Approval Date: June 6, 2011.

3. SWEPI LP, Pad ID: Drake 274, ABR-201106003, Lawrence Township, Tioga County, Pa.; Consumptive Use of up to 4.000 mgd; Approval Date: June 9, 2011.

4. Chesapeake Appalachia, LLC, Pad ID: Ford, ABR-201106004, Orwell Township, Bradford County, Pa.; Consumptive Use of up to 7.500 mgd; Approval Date: June 9, 2011.

5. Chesapeake Appalachia, LLC, Pad ID: Sophia, ABR-201106005, Smithfield Township, Bradford County, Pa.; Consumptive Use of up to 7.500 mgd; Approval Date: June 10, 2011.

6. SWEPI LP, Pad ID: Wood 626, ABR-201106006, Sullivan Township, Tioga County, Pa.; Consumptive Use of up to 4.000 mgd; Approval Date: June 10, 2011.

7. Chesapeake Appalachia, LLC, Pad ID: GB, ABR-201106007, Rush Township, Susquehanna County, Pa.; Consumptive Use of up to 7.500 mgd; Approval Date: June 13, 2011.

8. Chief Oil & Gas LLC, Pad ID: Polovitch East Drilling Pad #1, ABR-201106008, Nicholson Township, Wyoming County, Pa.; Consumptive Use of up to 2.000 mgd; Approval Date: June 13, 2011.

9. Citrus Energy Corporation, Pad ID: Johnston 1 Pad, ABR-201106009, Meshoppen Township, Wyoming County, Pa.; Consumptive Use of up to 5.000 mgd; Approval Date: June 13, 2011.

10. Chesapeake Appalachia, LLC, Pad ID: Neal, ABR-201106010, Leroy Township, Bradford County, Pa.; Consumptive Use of up to 7.500 mgd; Approval Date: June 14, 2011.

11. SWEPI LP, Pad ID: Watkins 820, ABR-201106011, Chatham Township, Tioga County, Pa.; Consumptive Use of up to 4.000 mgd; Approval Date: June 14, 2011.

12. Chesapeake Appalachia, LLC, Pad ID: Mel, ABR-201106012, Franklin Township, Bradford County, Pa.; Consumptive Use of up to 7.500 mgd; Approval Date: June 17, 2011.

13. Chesapeake Appalachia, LLC, Pad ID: Knickerbocker, ABR-201106013, Franklin Township, Bradford County, Pa.; Consumptive Use of up to 7.500 mgd; Approval Date: June 17, 2011.

14. Chesapeake Appalachia, LLC, Pad ID: IH, ABR-201106014, Stevens Township, Bradford County, Pa.; Consumptive Use of up to 7.500 mgd; Approval Date: June 17, 2011.

15. Chesapeake Appalachia, LLC, Pad ID: J & J, ABR-201106015, Smithfield Township, Bradford County, Pa.; Consumptive Use of up to 7.500 mgd; Approval Date: June 20, 2011.

16. Chesapeake Appalachia, LLC, Pad ID: Wootten, ABR-201106016, Mehoopany Township, Wyoming County, Pa.; Consumptive Use of up to 7.500 mgd; Approval Date: June 21, 2011.

17. SWEPI LP, Pad ID: Brucklacher 734, ABR-201106017, Jackson Township, Lycoming County, Pa.; Consumptive Use of up to 4.000 mgd; Approval Date: June 21, 2011.

18. Chesapeake Appalachia, LLC, Pad ID: Quail, ABR-201106018, Fox Township, Sullivan County, Pa.; Consumptive Use of up to 7.500 mgd; Approval Date: June 21, 2011.

19. Anadarko E&P Company LP, Pad ID: Larrys Creek F&G Pad H, ABR-201106019, Cummings Township, Lycoming County, Pa.; Consumptive Use of up to 4.000 mgd; Approval Date: June 24, 2011.

20. Anadarko E&P Company LP, Pad ID: H Lyle Landon Pad A, ABR-201106020, Cogan House Township, Lycoming County, Pa.; Consumptive Use of up to 4.000 mgd; Approval Date: June 24, 2011.

21. Chesapeake Appalachia, LLC, Pad ID: T&T, ABR-201106021, Cherry Township, Sullivan County, Pa.; Consumptive Use of up to 7.500 mgd; Approval Date: June 27, 2011.

22. Chesapeake Appalachia, LLC, Pad ID: Arch, ABR-201106022, Sweden Township, Potter County, Pa.; Consumptive Use of up to 7.500 mgd; Approval Date: June 27, 2011.

23. Chesapeake Appalachia, LLC, Pad ID: Lambs Farm, ABR-201106023, Smithfield Township, Bradford County, Pa.; Consumptive Use of up to 7.500 mgd; Approval Date: June 27, 2011.

24. Chesapeake Appalachia, LLC, Pad ID: Nichols, ABR-201106024, Smithfield Township, Bradford County, Pa.; Consumptive Use of up to 7.500 mgd; Approval Date: June 27, 2011.

25. Talisman Energy USA Inc., Pad ID: 07 185 Camp Comfort, ABR-201106025, Middletown Township, Susquehanna County, Pa.; Consumptive Use of up to 6.000 mgd; Approval Date: June 27, 2011.

26. SWEPI LP, Pad ID: Youst 405, ABR-201106026, Jackson Township, Tioga County, Pa.; Consumptive Use of up to 4.000 mgd; Approval Date: June 30, 2011.

27. Anadarko E&P Company LP, Pad ID: COP Tract 728 Pad B, ABR-201106027, Watson Township, Lycoming County, Pa.; Consumptive Use of up to 4.000 mgd; Approval Date: June 30, 2011.

28. Novus Operating, LLC, Pad ID: Lucca, ABR-201106028, Covington and Sullivan Townships, Tioga County, Pa.; Consumptive Use of up to 2.000 mgd; Approval Date: June 30, 2011.

29. Talisman Energy USA Inc., Pad ID: 02 011 DCNR 587, ABR-201106029, Ward Township, Tioga County, Pa.; Consumptive Use of up to 6.000 mgd; Approval Date: June 30, 2011.

30. EXCO Resources (PA), LLC, Pad ID: Poor Shot East Drilling Pad #2, ABR-20100681.1, Anthony Township, Lycoming County, Pa.; Consumptive Use of up to 8.000 mgd; Approval Date: June 30, 2011.

Rescinded Approvals By Rule Issued Under 18 CFR 806.22(f):

1. Hydro Recovery, LP, Blossburg Municipal Authority, ABR-201010061, Blossburg Borough, Tioga County, Pa.; Consumptive Use of up to 0.100 mgd; Approval Date: October 21, 2010, Rescinded Date: June 30, 2011.

Authority: Pub. L. 91-575, 84 Stat. 1509 et seq., 18 CFR parts 806, 807, and 808.

Dated: August 5, 2011.
Stephanie L. Richardson,
Secretary to the Commission.

[FR Doc. 2011-20609 Filed 8-12-11; 8:45 am]

BILLING CODE 7040-01-P